NUCLEAR REGULATORY COMMISSION

[Docket No. 50-346]

FirstEnergy Nuclear Operating Company; Notice of Withdrawal of Application for Amendment to Facility Operating License

The U.S. Nuclear Regulatory Commission (the Commission) has granted the request of FirstEnergy Nuclear Operating Company (the licensee) to withdraw its October 12, 2001, application for a proposed amendment to Facility Operating License No. NPF-3 for the Davis-Besse Nuclear Station, Unit 1, located in Ottawa County, Ohio.

The proposed amendment would have made necessary revisions to the DBNPS technical specifications to reflect an increase in the authorized rated thermal power from 2772 MWt to 2817 MWt (approximately 1.63 percent), based on the use of Caldon Inc. Leading Edge Flow Meter (LEFM) CheckPlus™ System instrumentation to improve the accuracy of the feedwater mass flow input to the plant power calorimetric measurement.

The Commission had previously issued a Notice of Consideration of Issuance of Amendment published in the Federal Register December 26, 2001 (66 FR 66467). However, by letter dated December 20, 2004, the licensee withdrew the proposed change.

For further details with respect to this action, see the application for amendment dated October 12, 2001, and the licensee's letter dated December 20, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 25th day of March 2005.
For the Nuclear Regulatory Commission.
Jon B. Hopkins,
Project Manager, Section 2, Project Directorate III, Division of Licensing Project Management, Office of Nuclear Reactor Regulation.

[FR Doc. E5-1451 Filed 3-31-05; 8:45 am]

BILLING CODE 7590-01-P